DEPARTMENT OF COMMERCE

International Trade Administration

[A-570-840]

Manganese Metal from the People's Republic of China; Final Results of Antidumping Duty Administrative Review

AGENCY: Import Administration, International Trade Administration, Department of Commerce.

ACTION: Notice of final results of antidumping duty administrative review of manganese metal from the People's Republic of China.

SUMMARY: We have determined that sales have been made below normal value during the period of review of February 1, 1999, through January 31, 2000. Based on our review of comments received and a re-examination of surrogate value data, we have made certain changes in the margin calculation for all of the reviewed companies. Consequently, the final results differ from the preliminary results. The final weighted-average dumping margins for these firms are listed below in the section entitled “Final Results of the Review.” Based on these final results of review, we will instruct the Customs Service to assess antidumping duties based on the difference between the export price and normal value on all appropriate entries.

We have also determined that the review of China National Electronics Import & Export Hunan Company should be rescinded.

EFFECTIVE DATE: March 15, 2001.

FOR FURTHER INFORMATION CONTACT: Greg Campbell or Suresh Maniam, Group 1, Office I, Antidumping/Countervailing Duty Enforcement, Import Administration, International Trade Administration, U.S. Department of Commerce, 14th Street and Constitution Avenue NW., Washington, DC 20230; telephone (202) 482-2239 or (202) 482-0176, respectively.

SUPPLEMENTARY INFORMATION:

The Applicable Statute

Unless otherwise indicated, all citations to the Tariff Act of 1930, as amended (the “Act”), are references to the provisions effective January 1, 1995, the effective date of the amendments made to the Act by the Uruguay Round Agreements Act (“URAA”). In addition, unless otherwise indicated, all citations to the Department of Commerce's (“Department”) regulations are to 19 CFR part 351 (1999).

Background

The period of review (“POR”) is February 1, 1999, through January 31, 2000. This review covers the following exporters (referred to collectively as “the respondents”): China Metallurgical Import & Export Hunan Corporation/Hunan Nonferrous Metals Import & Export Associated Corporation (“CMIECHN/CNIECHN”), Minmetals Precious and Rare Minerals Import & Export Company (“Minmetals”), London & Scandinavian Metallurgical Co. Ltd./Shieldalloy Metallurgical Corporation (“LSM/SMC”),¹ Sumitomo Canada, Ltd. (“SCL”), and China National Electronics Import & Export Hunan Company (“CEIEC”).

¹ SMC is the affiliated U.S. import of manganese from the U.K. reseller LSM.

On November 7, 2000, the Department published the Preliminary Results,² and invited parties to comment on our Preliminary Results. The petitioner and the PRC respondents submitted case briefs on December 15, 2000, and December 18, 2000, respectively. LSM/SMC also submitted a case brief on December 15, 2000. All parties submitted rebuttal briefs on January 5, 2001. At the request of certain interested parties, we held a public hearing on January 16, 2001.

² Manganese Metal from the People's Republic of China; Preliminary Results and Rescission in Part of Antidumping Duty Administrative Review, 65 FR 66697 (November 7, 2000) (“Preliminary Results”).

The Department has conducted this administrative review in accordance with section 751 of the Act.

Scope of Review

The merchandise covered by this review is manganese metal, which is composed principally of manganese, by weight, but also contains some impurities such as carbon, sulfur, phosphorous, iron and silicon. Manganese metal contains by weight not less than 95 percent manganese. All compositions, forms and sizes of manganese metal are included within the scope of this administrative review, including metal flake, powder, compressed powder, and fines. The subject merchandise is currently classifiable under subheadings 8111.00.45.00 and 8111.00.60.00 of the Harmonized Tariff Schedule of the United States (“HTSUS”). Although the HTSUS subheadings are provided for convenience and customs purposes, our written description of the scope of this proceeding is dispositive.

Rescission of Review in Part

As stated in the Preliminary Results, CEIEC notified the Department that it had not made any U.S. sales of subject merchandise during the POR. Entry data provided by the U.S. Customs Service (“Customs”) confirms that there were no POR entries from CEIEC of manganese metal.³ Therefore, consistent with the Department's regulations and practice,⁴ we are rescinding this review with respect to CEIEC.

³ See Memorandum to the Case File; Confirmation of No Shipment by CEIEC (October 31, 2000).

⁴ See 19 CFR 351.213(d)(3); Silicon Metal from Brazil; Final Results of Antidumping Duty Administrative Review, 61 FR 46753 (September 5, 1996).

Use of Facts Otherwise Available

As stated in the Preliminary Results, on June 19, 2000, SCL informed the Department that, given the small volume of merchandise it entered during the period of review (“POR”), SCL would not participate in this review. In the Preliminary Results, consistent with section 776(b) of the Act, we determined that the use of total adverse facts available was appropriate for this company. We have not identified any information or arguments since the Preliminary Results that would prompt a reconsideration of this finding. Therefore, for the reasons explained in the Preliminary Results, we have used total adverse facts available to determine a margin for SCL in this review.

Analysis of Comments Received

All issues raised in the case and rebuttal briefs by parties to this administrative review are addressed in the “Issues and Decision Memorandum” (“Decision Memo”) from Richard W. Moreland, Deputy Assistant Secretary, Import Administration, to Bernard T. Carreau, fulfilling the duties of Assistant Secretary for Import Administration, dated March 7, 2001, which is hereby adopted by this notice. A list of the issues which parties have raised and to which we have responded, all of which are in the Decision Memo, is attached to this notice as an appendix. Parties can find a complete discussion of all issues raised in this review and the corresponding recommendations in this public memorandum, which is on file in the Central Records Unit, room B-099 of the main Department building. In addition, a complete version of the Decision Memo can be accessed directly on the Web at http://ia.ita.doc.gov. The paper copy and electronic version of the Decision Memo are identical in content.

Changes Since the Preliminary Results

Based on our review of comments received and a re-examination of surrogate value data, we have made certain changes to the calculations for the final results. These changes are discussed in the comments section of the Decision Memo or in the referenced final calculation memoranda for particular companies.

Final Results of Review

We determine that the following dumping margins exist for the period February 1, 1999, through January 31, 2000:

Manufacturer/exporter | Margin
CMIECHN/CNIECHN | 12.12
Minmetals | 0.00
LSM/SMC | 3.49
SCL | 143.32

Because we are rescinding the review with respect to CEIEC, the company-specific rate for that company remains unchanged.

Assessment Rates

Pursuant to 19 CFR 351.212(b), the Department calculates an assessment rate for each importer of the subject merchandise. Because certain importer-specific assessment rates calculated in these final results are above de minimis (i.e., at or above 0.5 percent), the Department will issue appraisement instructions directly to the Customs Service to assess antidumping duties on appropriate entries by applying the assessment rate to the entered value of the merchandise. For assessment purposes, we calculate importer-specific assessment rates for the subject merchandise by aggregating the dumping duties due for all U.S. sales to each importer and dividing the amount by the total entered value of the sales to that importer.

Cash Deposit Requirements

The following cash deposit requirements will be effective upon publication of the final results of this administrative review for all shipments of the subject merchandise entered, or withdrawn from warehouse, for consumption on or after the publication date, as provided for by section 751(a)(1) of the Act: (1) For the exporters named above, the cash deposit rates will be the rates for these firms established in the final results of this review, except that, for exporters with de minimis rates (i.e., less than 0.5 percent) no deposit will be required; (2) for previously-reviewed PRC and non-PRC exporters with separate rates, the cash deposit rate will be the company-specific rate established for the most recent period during which they were reviewed; (3) for all other PRC exporters, the rate will be the PRC country-wide rate, which is 143.32 percent; and (4) for all other non-PRC exporters of subject merchandise from the PRC, the cash deposit rate will be the rate applicable to the PRC supplier of that exporter. These deposit requirements, when imposed, shall remain in effect until publication of the final results of the next administrative review.

Notification to Importers

This notice serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination and notice in accordance with sections 751(a)(1) and 777(i) of the Act.

Dated: March 7, 2001.
Timothy J. Hauser,
Acting Under Secretary for International Trade.

Appendix

List of Comments and Issues in the Decision Memorandum

Comment 1: Abuse of Discretion

Comment 2: Ore 1 Valuation Using Indian Prices

Comment 3: Ore 1 Valuation Using Ghanian Prices

Comment 4: Ore 2 Valuation

Comment 5: Positive Mud Surrogate Source

Comment 6: Positive Mud Time Adjustment

Comment 7: Liquid Ammonia Valuation

Comment 8: SDD Valuation

Comment 9: Selenium Dioxide Valuation

Comment 10: Electricity Valuation

Comment 11: Industry-Specific Direct Materials in Overhead, SG&A and Profit

Comment 12: Finished Goods in Overhead, SG&A and Profit

Comment 13: Overhead and SG&A of Powder Producers

Comment 14: Outward Distribution Expenses

Comment 15: Administrative Labor in Total Labor Expenses

Comment 16: Plastic Bag Valuation

Comment 17: Wooden Pallet Valuation

Comment 18: HYMM's Ore Grinding Costs

Comment 19: XTMM's Constructed Value Calculation

Comment 20: Minmetals' Typographical Error

Comment 21: HYMM's Iron Drums

Comment 22: Minmetals' Flake Value

Comment 23: OBS 43 Transportation Mode

Comment 24: LSM/SMC's CEP Profit

Comment 25: LSM/SMC's Inventory Carrying Cost, Inland Freight, and U.S. Brokerage and Handling

Comment 26: Exclusion of LSM/SMC's Sale

[FR Doc. 01-6469 Filed 3-14-01; 8:45 am]

BILLING CODE 3510-DS-P